DEPARTMENT OF THE INTERIOR

Central Utah Project Completion Act

AGENCY: Office of the Assistant Secretary—Water and Science, Department of the Interior.

ACTION: Notice of intent to negotiate contract(s) and agreement(s) among and between the Central Utah Water Conservancy District, Moon Lake Water Users Association, U.S. Forest Service, and Department of the Interior for the proposed development of the Uinta Basin Replacement Project, Utah, as authorized in Section 203(a) of the Central Utah Project Completion Act.

SUMMARY: The Uinta Basin Replacement Project is authorized in Section 203(a) of the Central Utah Project Completion Act (CUPCA). The Lake Fork Uinta Basin Replacement Project as described in the Draft Environmental Assessment includes: the enlargement of the non-federal Big Sand Wash Dam and Reservoir; modification of the outlet works at Moon Lake Dam and Reservoir to provide regulation for instream flows; construction of a Big Sand Wash Feeder Diversion Dam on the Lake Fork River; Construction of a Big Sand Wash Feeder pipeline and a Big Sand Wash-Roosevelt distribution pipeline; stabilization of high mountain lakes in the High Uintas Wilderness; and providing fish and wildlife habitat mitigation and enhancement.

Section 203(a)(1-4) of CUPCA, authorizes funds to be appropriated to construct features of the “Uinta Basin Replacement Project.” If constructed, the project would develop new water supplies for M&I and supplemental irrigation, replacement storage for the high mountain lakes irrigation water, enhance wilderness recreation, fish, and wildlife values, and provide instream flows for fishery habitat. A Draft Environmental Assessment for the Section 203(a), Uintah Basin Replacement Project was released for agency and public review on February 12, 2001. The document describes the Project and the results of the environmental impact analyses for the proposed action and the reasonable alternatives.

Section 203(c) requires that binding contracts be executed for the purchase of project water supplies before project funds can be expended and Section 203(d) of CUPCA specifies that the Uinta Basin Replacement Project be constructed under the guidelines of the Drainage Facilities and Minor Construction Act. Also, all project contracts and agreements must be negotiated and executed by all parties except the Secretary of the Interior by June 1, 2001 to provide adequate time to process final NEPA reports and environmental decision documents before the project authorization expires. Section 203(b) provides that the authorization will terminate 5 years from the date of completion of the feasibility study. The initial feasibility study was completed in November 1996 and all contracts, agreements, final NEPA report and environmental decision document, and the final Feasibility Study must be completed by November 2001 or the authorization will sunset. Negotiated contract(s) and agreement(s) among and between the District, Moon Lake Water Users Association, U.S. Forest Service, and DOI will comply with sections 203(a) thru 203(d) of CUPCA and the terms of the Compliance Agreement.

DATES: Dates for public negotiation sessions for the separate contracts or agreements will be announced in local newspapers.

FOR FURTHER INFORMATION: Additional information on matters related to this Federal Register notice can be obtained by contacting Mr. Michael Hansen, Program Coordinator, CUP Completion Act Office, Department of the Interior, 302 East 1860 South, Provo UT 84606-6154, Telephone: (801) 379-1194, E-Mail address: mhansen@uc.usbr.gov.

Dated: March 12, 2001.
Ronald Johnston,
CUP Program Director, Department of the Interior.

[FR Doc. 01-6551 Filed 3-15-01; 8:45 am]

BILLING CODE 4310-RK-P